DEPARTMENT OF HEALTH AND HUMAN SERVICES

National Institutes of Health

Center For Scientific Review; Amended Notice of Meeting

Notice is hereby given of a change in the meeting of the Center for Scientific Review Special Emphasis Panel, February 11, 2010, 1 p.m. to February 11, 2010, 5 p.m., National Institutes of Health, Bethesda, MD, 20892 which was published in the Federal Register on January 20, 2010, 75 FR 3241-3242.

The meeting will be held March 4, 2010. The meeting time and location remain the same. The meeting is closed to the public.

Dated: February 3, 2010.
Jennifer Spaeth,
Director, Office of Federal Advisory Committee Policy.

[FR Doc. 2010-3199 Filed 2-18-10; 8:45 am]

BILLING CODE 4140-01-P